DEPARTMENT OF STATE

[Public Notice No. 3266]

Advisory Committee on International Economic Policy Open Meeting Notice

The Advisory Committee on International Economic Policy (ACIEP) will meet from 9 a.m. to 1 p.m. on Tuesday, June 13, 2000, in Room 1107, U.S. Department of State, 2201 C Street, NW, Washington, DC 20520. The meeting will be hosted by Committee Chairman R. Michael Gadbaw and Under Secretary of State for Economic, Business, and Agricultural Affairs Alan P. Larson.

The ACIEP serves the U.S. Government in a solely advisory capacity concerning issues and problems in international economic policy. The objective of the ACIEP is to provide expertise and insight on these issues that are not available within the U.S. Government.

Topics for the June 13 meeting will be:

• Priority Democracies: Colombia, Indonesia, Nigeria, Ukraine.

• U.S.-EU Summit Issues.

• G-8 Summit Preview.

• Updates on:

— Sanctions

— Biotechnology

— China—WTO Accession

— Other Current Foreign Policy Issues

The public may attend these meetings as seating capacity allows. The media is welcome but discussions are off the record. Admittance to the Department of State building is by means of a pre-arranged clearance list. In order to be placed on this list, please provide your name, title, company or other affiliation if appropriate, social security number, date of birth, and citizenship to the ACIEP Executive Secretariat by fax (202) 647-5936 (Attention: Carol Thompson) or email: (thompsonce@state.gov) by June 6th. On the date of the meeting, persons who have registered should come to the 23rd Street entrance. One of the following valid means of identification will be required for admittance: a U.S. driver's license with photo, a passport, or a U.S. Government ID.

For further information about the meeting, contact Carol Thompson, ACIEP Secretariat, U.S. Department of State, Bureau of Economic and Business Affairs, Room 3638, Main State, Washington, DC 20520.

The ACIEP is creating a working group comprised of experts in fields such as science, academia, agriculture, consumer interests, environment, and industry to examine issues regarding new agricultural technologies, including biotechnology. This group will generate recommendations on international aspects of new agricultural technologies and will report back to the full committee. The group will be comprised of approximately 20 people.

Those interested in participating in the working group should send a resume/CV by April 28 to: Agricultural Office, Attention: S. Kenny, Department of State, 2201 C St NW, Room 3526, Washington, DC 20520, Fax: 202-647-1894, Email: kennyse@state.gov, thompsonce@state.gov.

Dated: April 5, 2000.
William J. McGlynn,
Executive Secretary of the Advisory Committee on International Economic Policy, U.S. Department of State.

[FR Doc. 00-9103 Filed 4-11-00; 8:45 am]

BILLING CODE 4710-07-P